DEPARTMENT OF ENERGY

Federal Energy Regulatory Commission

[Docket No. EL16-104-000]

HORUS Central Valley Solar 1, LLC, HORUS Central Valley Solar 2, LLC v. California Independent System Operator Corporation; Notice of Complaint

Take notice that on July 29, 2016, pursuant to sections 206 and 306 of the Federal Power Act, 16 U.S.C. 824e and 825e and Rule 206 of the Federal Energy Regulatory Commission`s (Commission) Rules of Practice and Procedure 18 CFR 385.206, HORUS Central Valley Solar 1, LLC and HORUS Central Valley Solar 2, LLC (collectively, HORUS), filed a formal complaint against California Independent System Operator Corporation (Respondent or CAISO) alleging violation of the CAISO Open Access Transmission Tariff and requesting that the Commission (1) direct the CAISO to stop interfering with HORUS' compliance with the interconnection procedures of Western Area Power Administration (Western) for its direct interconnection with Western as an energy-only resource, and (2) stop CAISO from requiring HORUS to go through a second set of interconnection procedures and studies under the CAISO tariff even though HORUS is an energy-only resource and Western is a non-participating transmission owner under the CAISO tariff for the HORUS project, as more fully explained in the complaint.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention, or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online Service, please email FERCOnlineSupport@ferc.gov, or call (866) 208-3676 (toll free). For TTY, call (202) 502-8659.

Comment Date: 5:00 p.m. Eastern Time on August 18, 2016.

Dated: August 1, 2016.
Nathaniel J. Davis, Sr.,
Deputy Secretary.

[FR Doc. 2016-19079 Filed 8-10-16; 8:45 am]

BILLING CODE 6717-01-P